DEPARTMENT OF TRANSPORTATION

Federal Aviation Administration

Fuel Flowmeters Technical Standard Order TSO-C44d Revision

AGENCY: Federal Aviation Administration, DOT.

ACTION: Notice of availability and request for public comment.

SUMMARY: This notice announces the availability of and request for public comments on the proposed revision of current Federal Aviation Administration (FAA) Technical Standard Order TSO-C44c, Fuel Flowmeters. The TSO tells manufacturers seeking a TSO authorization or letter of design approval what minimum performance standards (MPS) their Fuel Flowmeters must first meet for approval and identification with the applicable TSO markings.

DATES: Comments must be received on or before February 27, 2008.

ADDRESSES: Send all comments on the proposed revision to FAA TSO-44d to: Federal Aviation Administration, Aircraft Certification Service, Aircraft Engineering Division, Room 815, 800 Independence Avenue, SW., Washington, DC 20591. ATTN: Jim Kabbara, AIR-120. You may deliver comments to: Federal Aviation Administration, Room 815, 700 Independence Avenue, SW., Washington, DC 20591, or electronically submit comments to the following Internet address: 9-AWA-AVR-AIR-TSO44d-Comments@faa.gov. Include in the subject line of your message the title of the document, Comments FAA TSO-44d, Fuel Flowmeter Technical Standard Order.

FOR FURTHER INFORMATION CONTACT: Jim Kabbara, Aerospace Engineer, Federal Aviation Administration, Aircraft Certification Service, Aircraft Engineering Division, Technical Programs and Continued Airworthiness Branch, AIR-120, Room 815, 800 Independence Avenue, SW., Washington, DC 20591. Telephone (202) 267-8001, FAX (202) 267-5340, or e-mail at: jim.kabbara@faa.gov.

SUPPLEMENTARY INFORMATION:

Comments Invited

You are invited to comment on the draft order listed order listed in this notice by sending such written data, views, or arguments to the above listed address. Please identify “FAA TSO-44d, Fuel Flowmeters Technical Standard Order” as the subject of your comments. You may also examine comments received on the proposals before and after the comment closing date at the FAA Headquarters Building, Room 815, 800 Independence Avenue, SW., Washington, DC 20591, weekdays except Federal holidays, between 8:30 a.m. and 4:30 p.m. The Director of the Aircraft Certification Service will consider all communications received on or before the closing date before implementing the revision.

Background

The draft of Flowmeters TSO-44d rescinds the “hazardous” condition of paragraph 3b. The “hazardous” condition was added to revision c of TSO-44 dated 08/22/06. The proposed draft does not change any other existing requirement of TSO-44. The FAA developed this draft based on industry proposals.

How To Obtain Copies

You can get an electronic copy via the Internet at http://rgl.faa.gov, then select Technical Standard Orders and Index and chose “Proposed”, or by contacting the person named in the paragraph FOR FURTHER INFORMATION CONTACT.

Dated: Issued in Washington, DC, on January 17, 2008.
David W. Hempe,
Manager, Aircraft Engineering Division, Aircraft Certification Service.

[FR Doc. 08-319 Filed 1-25-08; 8:45 am]

BILLING CODE 4910-13-M